DEPARTMENT OF ENERGY

Federal Energy Regulatory Commission

[ Docket No. RP03-162-010]

Trailblazer Pipeline Company; Notice of Compliance Filing

March 16, 2004.

Take notice that on March 10, 2004, Trailblazer Pipeline Company (Trailblazer) tendered for filing to become part of its FERC Gas Tariff, Third Revised Volume No. 1, the following tariff sheets, to be effective March 1, 2004:

Sixth Revised Sheet No. 1

Substitute Eleventh Revised Sheet No. 5

Substitute Eleventh Revised Sheet No. 6

Substitute Fourth Revised Sheet No. 7

Substitute Original Sheet No. 7A

Trailblazer states that the purpose of this filing is to implement lower rates for Trailblazer consistent with an Offer of Settlement and Stipulation and Agreement filed by Trailblazer on September 22, 2003 in Docket No. RP03-162, as approved by a Commission Order issued January 23, 2004 106 FERC 61,034. Trailblazer states that the lower rates will be effective March 1, 200. Trailblazer explains that this filing supersedes a similar filing made by Trailblazer on February 27, 2004, reflecting that the Settlement is no longer contested as of March 1, 2004.

Trailblazer states that copies of the filing are being mailed to all parties on the service list, Trailblazer's customers, and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-649 Filed 3-22-04; 8:45 am]

BILLING CODE 6717-01-P